DEPARTMENT OF THE INTERIOR

National Park Service

Notice of Availability of a Record of Decision (ROD) on the Final Supplemental Environmental Impact Statement for the Winter Use Plans for Yellowstone and Grand Teton National Parks and the John D. Rockefeller, Jr., Memorial Parkway

AGENCY: National Park Service, Department of the Interior.

SUMMARY: Pursuant to § 102(2)(C) of the National Environmental Policy Act of 1969, Pub. L. 91-190, 83 Stat. 852, 853, codified as amended at 42 U.S.C. 4332(2)(C), the National Park Service announces the availability of the Record of Decision for the Winter Use Plans for Yellowstone and Grand Teton National Parks and the John D. Rockefeller, Jr., Memorial Parkway; Wyoming, Montana, and Idaho. On March 24, 2003, the Director, Intermountain Region approved the Record of Decision for the project with the decision effective at 12 noon m.s.t. on March 25, 2003. Beginning in the winter of 2003-2004, the National Park Service will implement this Decision although certain provisions will not apply until implementing regulations are promulgated or until the winter of 2004-2005. The following course of action will occur under alternative 4, the preferred alternative, as modified in the ROD: the use of snowmobiles in the parks and the parkway will be permitted, provided all machines meet best available technology (BAT) standards for sound and air emissions. All snowmobile users in Yellowstone will be required to be to be accompanied by NPS permitted guides. Monitoring and adaptive management strategies will allow for the adjustment of oversnow vehicle numbers should monitoring and carrying capacity studies indicate that standards are not being met.

This specific course of action was not included as an alternative in the Draft Supplemental Environmental Impact Statement, but was included and analyzed, along with 4 additional alternatives, in the Final Supplemental Environmental Impact Statement. The full range of foreseeable environmental consequences was assessed, and appropriate mitigating measures were identified.

The Record of Decision includes a statement of the decision made, synopses of other alternatives considered, the basis for the decision, a description of the environmentally preferable alternative, a finding regarding impairment of park resources and values, a listing of measures to minimize environmental harm, an overview of public involvement in the decision-making process, and a Statement of Findings.

FOR FURTHER INFORMATION CONTACT: John Sacklin, Yellowstone National Park, PO Box 168, Yellowstone, WY 82190, (307) 344-2020, John_Sacklin@nps.gov.

SUPPLEMENTARY INFORMATION: Copies of the Record of Decision may be obtained from the contact listed above or online at nps.gov/grte/winteruse/winteruse.htm.

Dated: March 25, 2003.
Karen Wade,
Director, Intermountain Region, National Park Service.

[FR Doc. 03-8191 Filed 4-3-03; 8:45 am]

BILLING CODE 4310-70-P